DEPARTMENT OF TRANSPORTATION

National Highway Traffic Safety Administration

[Docket No. NHTSA-2016-0051]

Notice and Request for Comments

AGENCY: National Highway Traffic Safety Administration (NHTSA), U.S. Department of Transportation (DOT).

ACTION: Notice and request for comments.

SUMMARY: The Department of Transportation (DOT) invites public comments about our intention to request the Office of Management and Budget (OMB) approval for a new information collection. The John A. Volpe National Transportation Systems Center (Volpe Center), U.S. DOT, will conduct this study under an interagency agreement with NHTSA. The collection involves case study interviews with law enforcement agency personnel pertaining to their knowledge and practice in using automated license plate readers (ALPR) for traffic safety purposes. The information to be collected will be used to document the state of knowledge and practice in using ALPR for this purpose under the National Cooperative Research and Evaluation Program (NCREP), which is managed jointly by NHTSA and the Governors Highway Safety Association (GHSA). Before a Federal agency can collect certain information from the public, it must receive approval from OMB. Under procedures established by the Paperwork Reduction Act of 1995, before seeking OMB approval, Federal agencies must solicit public comment on proposed collections of information, including extensions and reinstatement of previously approved collections.

DATES: Written comments should be submitted by June 28, 2016.

ADDRESSES: You may submit comments [identified by Docket No. NHTSA-2016-0051] through one of the following methods:

• Federal eRulemaking Portal: http://www.regulations.gov. Follow the online instructions for submitting comments.

• Fax: 1 (202) 493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Margaret Petrella, 617-494-3582, The Volpe Center, U.S. Department of Transportation, Economics Analysis Division (V-321), 55 Broadway, Cambridge, MA 02142.

SUPPLEMENTARY INFORMATION:

OMB Control Number: 212—New.

Title: Using Automated License Plate Readers for Traffic Safety Purposes.

Form Numbers: N/A.

Type of Review: New Information Collection.

Abstract: NHTSA's mission is to save lives, prevent injuries, and reduce economic costs due to road traffic crashes, through education, research, safety standards, and enforcement activity. NHTSA has statutory authority (see 23 U.S.C. 403; 49 CFR 1.50; 49CFR part 501) to accomplish this mission. Under the Highway Safety Act of 1966, Section 403, the Secretary of Transportation is required to carry out research and demonstration programs. In addition, the Moving Ahead for Progress in the 21st Century Act (MAP-21), Subsection 402(c), states that the Secretary, acting through the NHTSA Administrator, shall establish a cooperative program to research and evaluate State highway safety countermeasures. MAP-21 provides that this new cooperative research and evaluation program, the National Cooperative Research and Evaluation Program (NCREP), is to be administered by NHTSA and jointly managed by NHTSA and the Governors Highway Safety Association (GHSA). The Volpe Center is providing support to NHTSA under an interagency agreement in establishing and managing this new cooperative Program. Under the NCREP Program, GHSA, in conjunction with NHTSA, identified a need to discover and report on the state of knowledge and practice regarding the use of ALPRs for traffic safety purposes. As part of this project, this information collection activity includes case studies that will be conducted at 9 to 12 law enforcement agency (LEA) sites. Site selection will cover the diversity of LEAs that are deploying ALPR for traffic safety purposes (e.g. agencies of different sizes, those operating in different regions of the country), as determined through a thorough review of the literature.

Case studies will involve qualitative interviews with a variety of personnel in each selected LEA. A discussion guide comprised of approximately 15 to 20 questions will be used for each interview. This approach will provide a knowledge base, including rich, contextual information, from those most knowledgeable about the weaknesses and strengths or barriers and incentives to this technology's effective implementation and use for traffic safety purposes.

Affected Public: Law enforcement agency personnel.

Estimated Number of Respondents: Approximately 60 (5 personnel from each agency).

Frequency: One time only.

Number of Responses: 15-20.

Estimated Annual Burden: 45 hours (45 minutes per respondent).

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:48.

Issued on: April 26, 2016.
Jeff Michael,
Associate Administrator, Research and Program Development.

[FR Doc. 2016-10038 Filed 4-28-16; 8:45 am]

BILLING CODE 4910-59-P